DEPARTMENT OF TRANSPORTATION

Federal Aviation Administration

14 CFR Part 39

[Docket No. FAA-2010-0474; Directorate Identifier 2009-NM-056-AD]

RIN 2120-AA64

Airworthiness Directives; BAE Systems (Operations) Limited Model 4101 Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as: During ground maneuvering, prolonged operation with either engine in the restricted range between 82% and 90% RPM [revolutions per minute] will result in damage [e.g., cracking of the blade or hub] to the propeller assembly that could eventually result in the release of a propeller blade. EASA AD 2007-0268 [which corresponds to FAA AD 2008-13-02] was issued to require the installation of a Propeller Warning Placard and implementation of a corresponding Aircraft Flight Manual (AFM) limitation instructing the flight crew to taxi with the condition lever at FLIGHT in order to minimise the time spent by the engines in the restricted range. BAE Systems has now developed a Propeller Speed Warning System.

A released propeller blade could result in engine failure and loss of control of the airplane. The proposed AD would require actions that are intended to address the unsafe condition described in the MCAI.

DATES: We must receive comments on this proposed AD by June 24, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact BAE Systems Regional Aircraft, 13850 McLearen Road, Herndon, Virginia 20171; telephone 703-736-1080; e-mail raebusiness@baesystems.com; Internet http://www.baesystems.com/Businesses/RegionalAircraft/index.htm. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2010-0474; Directorate Identifier 2009-NM-056-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

On June 10, 2008, we issued AD 2008-13-02, Amendment 39-15565 (73 FR 34847, June 19, 2008). That AD requires actions intended to address an unsafe condition on the products listed above.

Since we issued AD 2008-13-02, inadvertent high revolutions per minute (RPM) taxiing operations have been reported to have caused stress to the propeller blades, which can result in dangerous blade cracks. The European Aviation Safety Agency (EASA), which is the Technical Agent for the Member States of the European Community, has issued EASA Airworthiness Directive 2009-0038, dated February 18, 2009 (referred to after this as “the MCAI”), to correct an unsafe condition for the specified products. The MCAI states:

During ground manoeuvring, prolonged operation with either engine in the restricted range between 82% and 90% RPM [revolutions per minute] will result in damage [e.g., cracking of the blade or hub] to the propeller assembly that could eventually result in the release of a propeller blade.

To correct this unsafe condition, EASA AD 2007-0268 [which corresponds to FAA AD 2008-13-02] was issued to require the installation of a Propeller Warning Placard and implementation of a corresponding Aircraft Flight Manual (AFM) limitation, instructing the flight crew to taxi with the condition lever at FLIGHT in order to minimize the time spent by the engines in the restricted range. BAE Systems has now developed a Propeller Speed Warning System, embodiment of which will allow taxiing with the condition lever at TAXI, through the introduction of a revised Flight Manual Limitation.

For the reasons described above, this EASA AD retains the requirements of EASA AD 2007-0268, which is superseded, and requires the installation of a Propeller Speed Warning System.

A released propeller blade could result in engine failure and loss of control of the airplane. You may obtain further information by examining the MCAI in the AD docket.

Relevant Service Information

BAE Systems (Operations) Limited has issued Aircraft Change Information Bulletin J41-61-014, Section 2, Issue 7, dated August 17, 2009. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 3 products of U.S. registry.

The actions that are required by AD 2008-13-02 and retained in this proposed AD take about 2 work-hours per product, at an average labor rate of $85 per work hour. Required parts cost about $25 per product. Based on these figures, the estimated cost of the currently required actions is $195 per product.

We estimate that it would take about 20 work-hours per product to comply with the new basic requirements of this proposed AD. The average labor rate is $85 per work-hour. Required parts would cost about $2,800 per product. Where the service information lists required parts costs that are covered under warranty, we have assumed that there will be no charge for these costs. As we do not control warranty coverage for affected parties, some parties may incur costs higher than estimated here. Based on these figures, we estimate the cost of the proposed AD on U.S. operators to be $14,085, or $4,695 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15565 (73 FR 34847, June 19, 2008) and adding the following new AD:

BAE Systems (Operations) Limited: Docket No. FAA-2010-0474; Directorate Identifier 2009-NM-056-AD.

Comments Due Date

(a) We must receive comments by June 24, 2010.

Affected ADs

(b) The proposed AD supersedes AD 2008-13-02, Amendment 39-15565.

Applicability

(c) This AD applies to all BAE Systems (Operations) Limited Model 4101 airplanes, certificated in any category.

Subject

(d) Air Transport Association (ATA) of America Code 61: Propellers/Propulsors.

Reason

(e) The mandatory continuing airworthiness information (MCAI) states:

During ground maneuvreing, prolonged operation with either engine in the restricted range between 82% and 90% RPM [revolutions per minute] will result in damage [e.g., cracking of the blade or hub] to the propeller assembly that could eventually result in the release of a propeller blade.

To correct this unsafe condition, EASA AD 2007-0268 [which corresponds to FAA AD 2008-13-02] was issued to require the installation of a Propeller Warning Placard and implementation of a corresponding Aircraft Flight Manual (AFM) limitation, instructing the flight crew to taxi with the condition lever at FLIGHT in order to minimize the time spent by the engines in the restricted range. BAE Systems has now developed a Propeller Speed Warning System, embodiment of which will allow taxiing with the condition lever at TAXI, through the introduction of a revised Flight Manual Limitation.

For the reasons described above, this EASA AD retains the requirements of EASA AD 2007-0268, which is superseded, and requires the installation of a Propeller Speed Warning System.

A released propeller blade could result in engine failure and loss of control of the airplane.

Compliance

(f) You are responsible for having the actions required by this AD performed within the compliance times specified, unless the actions have already been done.

Restatement of Requirements of AD-2008-13-02 With New Requirements

Actions

(g) Within 90 days after July 24, 2008 (the effective date of AD 2008-13-02), unless already done, do the following actions.

(1) Replace the existing Propeller Limitations Placard in the cockpit with a new placard, in accordance with the Accomplishment Instructions of BAE Systems (Operations) Limited Service Bulletin J41-11-027, dated March 29, 2007.

(2) Revise the BAE Jetstream Series 4100 Flight Manual (FM) to include the information in BAE Jetstream Series 4100 General Amendment G12, approved January 2007; and BAE Jetstream Series 4100 Advance Amendment Bulletin 13, approved April 4, 2007. General Amendment G12 describes a rolling take-off technique and the reduced possibility of landing with ice contaminating the wings, and adds a Gross Height/Pressure Altitude Conversion Chart. Advance Amendment Bulletin 13 introduces procedures for placing the propeller condition levers in the Flight position during all ground maneuvering. Operate the airplane according to the procedures in General Amendment G12 and Advance Amendment Bulletin 13.

Note 1: This may be done by inserting copies of General Amendment G12 and Advance Amendment Bulletin 13 into the FM. When General Amendment G12 and Advance Amendment Bulletin 13 have been included in general revisions of the FM, the general revisions may be inserted in the FM, provided the relevant information in the general revision is identical to that in General Amendment G12 and Advance Amendment Bulletin 13.

New Requirements of This AD

Actions

(h) Unless already done, do the following actions.

(1) Within 6 months after the effective date of this AD, install a Propeller Speed Warning System (modification JM41674), in accordance with Section 2 of BAE Systems (Operations) Limited Aircraft Change Information Bulletin J41-61-014, Issue 7, dated August 17, 2009. Before further flight after modification, do the actions required in paragraphs (h)(1)(i) and (h)(1)(ii) of this AD.

(i) Remove the placard that was installed as required by paragraph (g)(1) of this AD.

(ii) Remove BAE Jetstream Series 4100 Advance Amendment Bulletin 13, approved April 4, 2007, from the FM.

(2) Within 6 months after the effective date of this AD, revise the BAE Jetstream Series 4100 FM using a method approved in accordance with the procedures specified in paragraph (i) of this AD.

Note 2: Guidance on revising the BAE Jetstream Series 4100 FM, as required by paragraph (h)(2) of this AD, can be found in BAE Jetstream Series 4100 Particular Amendment 111, approved July 27, 2009.

FAA AD Differences

Note 3: This AD differs from the MCAI and/or service information as follows: No differences.

Other FAA AD Provisions

(i) The following provisions also apply to this AD:

(1) Alternative Methods of Compliance (AMOCs): The Manager, International Branch, ANM-116, Transport Airplane Directorate, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(j) Refer to MCAI European Aviation Safety Agency (EASA) Airworthiness Directive 2009-0038, dated February 18, 2009; and the service information identified in Table 1 of this AD; for related information.

Table 1—Service Information
Service information | Date
BAE Jetstream Series 4100 Advance Amendment Bulletin 13 to the Jetstream Series 4100 Flight Manual | April 4, 2007.
BAE Jetstream Series 4100 General Amendment G12 to the Jetstream Series 4100 Flight Manual | January 2007.
BAE Systems (Operations) Limited Aircraft Change Information Bulletin J41-61-014, Section 2, Issue 7 | August 17, 2009.
BAE Systems (Operations) Limited Service Bulletin J41-11-027 | March 29, 2007.

Issued in Renton, Washington, on April 30, 2010.
Ali Bahrami,
Manager, Transport Airplane Directorate, Aircraft Certification Service.

[FR Doc. 2010-10996 Filed 5-7-10; 8:45 am]

BILLING CODE 4910-13-P